DEPARTMENT OF THE INTERIOR

National Park Service

[NPS-WASO-NAGPRA-NPS0026534; PPWOCRADN0-PCU00RP14.R50000]

Notice of Inventory Completion: California Department of Parks and Recreation, Sacramento, CA

AGENCY: National Park Service, Interior.

ACTION: Notice.

SUMMARY: The California Department of Parks and Recreation has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the California Department of Parks and Recreation. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the California Department of Parks and Recreation at the address in this notice by November 16, 2018.

ADDRESSES: Leslie Hartzell, Ph.D., NAGPRA Coordinator, Cultural Resources Division Chief, California State Parks, P.O. Box 942896, Sacramento, CA 94296-0001, telephone (916) 653-9946, email leslie.hartzell@parks.ca.gov.

SUPPLEMENTARY INFORMATION: Notice is here given in accordance with the Native American Graves Protection and Repatriation Act (NAGPRA), 25 U.S.C. 3003, of the completion of an inventory of human remains and associated funerary objects under the control of the California Department of Parks and Recreation, Sacramento, CA. The human remains and associated funerary objects were removed from Mitchell Caverns (CA-SBR-117), San Bernardino, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the California Department of Parks and Recreation professional staff in consultation with representatives of the Chemehuevi Indian Tribe of the Chemehuevi Reservation, California and the Twenty-Nine Palms Band of Mission Indians of California.

The Colorado River Indian Tribes of the Colorado River Indian Reservation, Arizona and California, and the Fort Mojave Indian Tribe of Arizona, California, & Nevada were invited to consult but did not participate.

History and Description of the Remains

In 1968, human remains representing, at minimum, one individual were removed from Mitchell Caverns (CA-SBR-117) in San Bernardino, CA. The human remains were uncovered during a construction project in El Pakiva cave, and were collected by Park Supervisor Frank L. Fairchild. The human remains were sent from Mitchell Caverns State Reserve to the California Department of Parks and Recreation headquarters in Sacramento, CA on May 29, 1968, where they were cataloged. The human remains consist of a mandible of a juvenile, aged 8-9 years. No known individuals were identified. The 10 associated funerary objects are: One sheep scapula, one bone needle, two bone awls, two bone tools, two bifaces, one abalone shell, and one lot of acorn fragments.

It is estimated that El Pakiva cave was used from A.D. 500 until historic contact. There is no known date for the human remains removed from the cave. The cave's geographic affiliation and archeological context are consistent with the historically documented Chemehuevi. Archeological and linguistic evidence suggest the ancestral Chemehuevi were present in the area by A.D. 1000 to 1200, and perhaps even earlier. Based on consultation with the Tribes of the region and the historic circumstances of the relationship between the historic Chemehuevi and Mojave peoples, the California Department of Parks and Recreation Committee on Repatriation determined that there is a relationship of shared group identity which can be reasonably traced between these Native American human remains and the Chemehuevi Indian Tribe of the Chemehuevi Reservation, California; Colorado River Indian Tribes of the Colorado River Indian Reservation, Arizona and California; Fort Mojave Indian Tribe of Arizona, California & Nevada; and the Twenty-Nine Palms Band of Mission Indians of California, hereafter referred to as “The Tribes.”

Determinations Made by the California Department of Parks and Recreation

Officials of the California Department of Parks and Recreation have determined that:

• Pursuant to 25 U.S.C. 3001(9), the human remains described in this notice represent the physical remains of one individual of Native American ancestry.

• Pursuant to 25 U.S.C. 3001(3)(A), the 10 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Leslie Hartzell, Ph.D., NAGPRA Coordinator, Cultural Resources Division Chief, California State Parks, P.O. Box 942896, Sacramento, CA 94296-0001, telephone (916) 653-9946, email leslie.hartzell@parks.ca.gov, by November 16, 2018. After that date, if no additional requestors have come forward, transfer of control of the human remains and associated funerary objects to The Tribes may proceed.

The California Department of Parks and Recreation is responsible for notifying The Tribes that this notice has been published.

Dated: September 19, 2018.
Melanie O'Brien,
Manager, National NAGPRA Program.

[FR Doc. 2018-22590 Filed 10-16-18; 8:45 am]

BILLING CODE 4312-52-P